DEPARTMENT OF ENERGY

Federal Energy Regulatory Commission

[Docket No. EG02-103.000, et al.]

Hermiston Power Partnership., et al.; Electric Rate and Corporate Regulation Filings

March 14, 2002.

Take notice that the following filings have been made with the Commission. Any comments should be submitted in accordance with Standard Paragraph E at the end of this notice.

1. Hermiston Power Partnership

[Docket No. EG02-103-000]

Take notice that on March 11, 2002, Hermiston Power Partnership (Hermiston) filed with the Federal Energy Regulatory Commission (Commission) an application for determination of exempt wholesale generator status pursuant to part 365 of the Commission's regulations.

Hermiston, an Oregon general partnership, proposes to own and operate a 546 MW natural gas-fired, combined cycle electric generating facility located in Umatilla County, Oregon. Hermiston will sell the output at wholesale to an affiliated power marketer.

Comment date: April 3, 2002.

2. EE South Glens Falls

[Docket No. ER99-1261-003]

Take notice that on March 11, 2002, Energy East South Glens Falls, LLC (EE South Glens Falls) tendered a letter concerning its triennial market power review pursuant to an order issued by the Commission in Docket No. ER99-1261-000 on March 11, 1999 granting EE South Glens Falls market-based rate authorization.

Comment date: April 1, 2002.

3. American Transmission Company LLC, Edison Sault Electric Company, Wisconsin Electric Power Company

[Docket No. ER01-702-003, Docket No. OA01-7-000, and Docket No. OA01-8-000 (Not Consolidated)]

Take notice that on March 7, 2002, American Transmission Company LLC (ATCLLC) tendered for filing a compliance filing with the Federal Energy Regulatory Commission (Commission) as required by the Commission's February 1, 2002 Order on Standards of Conduct in the above captioned proceedings.

Comment date: March 28, 2002.

4. Hardee Power Partners Limited

[Docket No. ER01-3064-002]

Take notice that on March 11, 2002, in compliance with the Federal Energy Regulatory Commission's (Commission) letter order issued January 8, 2002 in the above-referenced proceeding, Hardee Power Partners Limited tendered for filing with the Commission revisions to the tariff sheet designations of its Electric Rate Schedule FERC Nos. 1 and 2. These revisions are consistent with the requirements set forth in Order No. 614. Designation of Electric Rate Schedules, 90 FERC 61,352 (2000).

Comment date: April 1, 2002.

5. Midwest Independent Transmission System Operator, Inc.

[Docket No. ER02-947-001]

Take notice that on March 11, 2002, the Midwest Independent Transmission System Operator, Inc. (the Midwest ISO) tendered for filing revisions to its Open Access Transmission Tariff (OATT), FERC Electric Tariff, Original Volume No. 1, which amend the Midwest ISO's February 1, 2002 filing pursuant to Section 205 of the Federal Power Act and Part 35 of the Commission's Regulations, 18 CFR 35 et seq. (2001).

The Midwest ISO has electronically served copies of its filing, with attachments, upon all Midwest ISO Members, Member representatives of Transmission Owners and Non-Transmission Owners, the Midwest ISO Advisory Committee participants, Policy Subcommittee participants, as well as all state commissions within the region. In addition, the filing has been electronically posted on the Midwest ISO's website at www.midwestiso.org under the heading “Filings to FERC” for other interested parties in this matter.

Comment date: April 1, 2002.

6. Central Maine Power Company

[Docket No. ER02-1301-000]

Take notice that on March 11, 2002, Central Maine Power Company (CMP) tendered for filing a service agreement for Non-firm Local Point-to-Point Transmission Service entered into with Gardner Brook Hydro. Service will be provided pursuant to CMP's Open Access Transmission Tariff, designated rate schedule CMP—FERC Electric Tariff, Original Volume No. 3, Fifth Revision, Service Agreement No. 156.

Comment date: April 1, 2002.

7. Alliant Energy Corporate Services, Inc.

[Docket No. ER02-1291-000]

Take notice that on March 6, 2002, Alliant Energy Corporate Services, Inc. tendered for filing with the Federal Energy Regulatory Commission (Commission) an amendment to include one page that was omitted from its executed Service Agreement with EnXco, Inc. for Non-Firm Point-to-Point Transmission.

Alliant Energy Corporate Services, Inc. renews its request for an effective date of November 27, 2001, and accordingly, seeks waiver of the Commission's notice requirements. A copy of this filing has been served upon the Illinois Commerce Commission, the Minnesota Public Utilities Commission, the Iowa Department of Commerce, and the Public Service Commission of Wisconsin.

Comment date: March 27, 2002.

8. Xcel Energy Services, Inc.

[Docket No. ER02-1292-000]

Take notice that on March 11, 2002, Xcel Energy Services, Inc. (XES), on behalf of Public Service Company of Colorado (Public Service), submitted for filing a Master Power Purchase and Sale Agreement between Public Service and Williams Gas Processing Company. (Williams Gas), which is in accordance with Public Service's Rate Schedule for Market-Based Power Sales (Public Service FERC Electric Tariff, First Revised Volume No. 6).

XES requests that this agreement become effective on December 11, 2001.

Comment date: April 1, 2002.

9. Puget Sound Energy, Inc.

[Docket No. ER02-1297-000]

Take notice that on March 11, 2002, Puget Sound Energy, Inc., as Transmission Provider, tendered for filing a service agreement for Firm Point-To-Point Transmission Service and a service agreement for Non-Firm Point-To-Point Transmission Service with NorthPoint Energy Solutions Inc. (NorthPoint), as Transmission Customer. A copy of the filing was served upon NorthPoint.

Comment date: April 1, 2002.

10. Wolverine Power Supply Cooperative, Inc.

[Docket No. ER02-1298-000]

Take notice that on March 11, 2002, Wolverine Power Supply Cooperative, Inc. tendered for filing an executed Term Sheet between Wolverine Power Supply Cooperative, Inc., and Wolverine Power Marketing Cooperative, Inc., which term sheet expressly incorporated the terms and conditions of the Wholesale Power Sales Enabling Agreement between Wolverine Power Supply Cooperative, Inc. and Wolverine Power Marketing Cooperative, Inc. previously approved by this Commission. The Term Sheet concerns the sale of power from Wolverine Power to Wolverine Marketing with ultimate service to end-use retail customer CEMEX Wolverine requests an effective date of February 11, 2002 for this filing.

Wolverine states that a copy of this filing has been served upon Wolverine Power Marketing Cooperative, Inc. and the Michigan Public Service Commission.

Comment date: April 1, 2002.

11. Entergy Services, Inc.

[Docket No. ER02-1299-000]

Take notice that on March 11, 2002, Entergy Services, Inc., on behalf of Entergy Arkansas, Inc., Entergy Gulf States, Inc., Entergy Louisiana, Inc., Entergy Mississippi, Inc., and Entergy New Orleans, Inc., (collectively, the Entergy Operating Companies) tendered for filing a Long-Term Firm Point-To-Point Transmission Service Agreement between Entergy Services, Inc., as agent for the Entergy Operating Companies, and Coral Power, L.L.C.

Comment date: April 1, 2002.

12. Southwest Power Pool, Inc.

[Docket No. ER02-1300-000]

Take notice that on March 11, 2002, Southwest Power Pool, Inc. (SPP) submitted for filing an executed service agreement for Firm Point-to-Point Transmission Service with Higginsville Municipal Utilities (Transmission Customer). SPP seeks an effective date of March 1, 2002 for this service agreement.

The Transmission Customer was served with a copy of this filing.

Comment date: April 1, 2002.

Standard Paragraph

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-6786 Filed 3-20-02; 8:45 am]

BILLING CODE 6717-01-P